DEPARTMENT OF VETERANS AFFAIRS

Advisory Committee on Women Veterans; Notice of Meeting

The Department of Veterans Affairs (VA) gives notice under Public Law 92-463 (Federal Advisory Committee Act) that the Advisory Committee on Women Veterans will conduct site visits on June 20-24, 2005, at the VA New Jersey Health Care System's East Orange Campus VA Medical Center, 385 Tremont Avenue, East Orange, NJ 07018, and the Lyons Campus VA Medical Center, 151 Knollcroft Road, Lyons, NJ 07939, as well as several other VA facilities in the area. The site visits will be held from 8 a.m. until 4 p.m. each day and will be open to the public.

The purpose of the Committee is to advise the Secretary of Veterans Affairs regarding the needs of women veterans with respect to health care, rehabilitation, compensation, outreach, and other programs and activities administered by VA designed to meet such needs. The Committee will make recommendations to the Secretary regarding such programs and activities.

On June 20, the agenda topics for this meeting will include briefings and updates by the key leadership at the East Orange Campus VA Medical Center (VAMC) and the Women Veterans Program Managers in Veterans Integrated Services Network (VISN) 3, as well as briefings from VISN leadership. On June 21, the Committee will hear briefings and updates by the key leadership at the Newark VA Regional Office (VARO) and will hear briefings from staff at the Newark Vet Center. The Committee will also tour the East Orange Campus VAMC and hear briefings from the service line chiefs at that facility. On June 22, the Committee will hear briefings and updates by the key leadership group at the East Orange Campus VAMC as well as updates from other VISN leadership. On June 23, the Committee will tour the Lyons Campus VAMC as well as hear briefings from leadership at that facility. On June 24, an open forum and town hall meeting with the women veterans' community will be held at the East Orange Campus VAMC.

Any member of the public wishing to attend should contact Ms. Rebecca Schiller at the Department of Veterans Affairs, Center for Women Veterans (OOW), 810 Vermont Avenue, NW., Washington, DC 20420. Ms. Schiller may be contacted either by phone at (202) 273-6193, fax at (202) 273-7092, or e-mail at OOW@mail.va.gov. Interested persons may attend, appear before, or file statements with the Committee. Written statements must be filed before the meeting or within 10 days after the meeting.

Dated: May 10, 2005.
By direction of the Secretary.
E. Philip Riggin,
Committee Management Officer.

[FR Doc. 05-9651 Filed 5-13-05; 8:45 am]

BILLING CODE 8320-01-M